DEPARTMENT OF ENERGY

10 CFR Parts 429 and 430

[EERE-2014-BT-STD-0005]

RIN 1904-AD15

Energy Conservation Program: Energy Conservation Standards for Consumer Conventional Cooking Products

Correction

In Proposed Rule Document 2023-00610, appearing on pages 6818-6904 in the issue of Wednesday, February 1, 2023, make the following correction:

On page 6904, in the third column, the table is corrected to read as set forth below:

§ 430.32 Energy and water conservation standards and their compliance dates [Corrected]

* * * * *

Product class | Maximum integrated annual energy consumption (IAEC)
Electric Cooking Tops—Open (Coil) Elements | 199 kWh/year.
Electric Cooking Tops—Smooth Elements | 207 kWh/year.
Gas Cooking Tops | 1,204 kBtu/year.

* * * * *

[FR Doc. C1-2023-00610 Filed 2-24-23; 4:15 pm]

BILLING CODE 0099-10-D